ENVIRONMENTAL PROTECTION AGENCY

[FRL-8202-2]

Excello Plating Co. and Glen Harleman; Notice of Proposed CERCLA Administrative Order on Consent

AGENCY: Environmental Protection Agency (EPA).

ACTION: Notice; request for public comment.

SUMMARY: In accordance with section 122(I) of the Comprehensive Environmental Response, Compensation, and Liability Act, as amended (“CERCLA”), 42 U.S.C. 9622(I), the EPA is hereby providing notice of a proposed administrative order on consent (“AOC”) concerning the Excello Plating Co. facility located at 4057 Goodwin Avenue, Los Angeles, California. Section 122(h) of CERCLA, 42 U.S.C. 9622(g), provides EPA with the authority to enter into administrative settlements. This settlement is intended to resolve the liability of Excello Plating Co. and Glen Harleman for EPA's response costs at the Excello Plating Co. facility. The settling parties will pay a $43,000 (forty-three thousand dollars) to EPA.

DATES: EPA will receive written comments relating to the settlement for thirty (30) days beginning on the date this notice is published. EPA will consider all comments it receives during this period, and may modify or withdraw its consent to the settlement if any comments disclose facts or considerations indicating that the settlement is inappropriate, improper, or inadequate.

ADDRESSES: Written comments should be addressed to Marie Rongone, U.S. Environmental Protection Agency Region IX, 75 Hawthorne Street (mail code ORC-3), San Francisco, California 94105-3901.

FOR FURTHER INFORMATION CONTACT: Marie Rongone, U.S. Environmental Protection Agency Region IX, 75 Hawthorne Street (mail code ORC-3), San Francisco, California 94105-3901, (415) 972-3891, Rongone.Marie@epa.gov.

Dated: June 29, 2006.
Nancy Lindsay,
Acting Director, Superfund Division, U.S. EPA Region IX.

[FR Doc. E6-11707 Filed 7-21-06; 8:45 am]

BILLING CODE 6560-50-P